DEPARTMENT OF THE INTERIOR

Fish and Wildlife Service

Endangered and Threatened Species Permit Applications

ACTION: Notice of receipt of applications.

SUMMARY: The following applicants have applied for a scientific research permit to conduct certain activities with endangered species pursuant to section 10(a)(1)(A) of the Endangered Species Act of 1973, as amended (16 U.S.C. 1531, et seq.).

Permit No. TE-039466

Applicant: USGS-BRD Arizona Cooperative Fish and Wildlife Research Unit, Tucson, Arizona.

Applicant requests a permit to conduct surveys for the Yuma clapper rail (Rallus longirostris yumanensis) and to study the effects of prescribed fire on this species within Yuma County, Arizona.

Permit No. TE-039467

Applicant: USGS-BRD Arizona Cooperative Fish and Wildlife Research Unit, Tucson, Arizona.

Applicant requests permit for authorization to take Gila topminnows (Poeciliopsis occidentalis) during sampling activities for Gila chub (Gila intermedia), which is not a federally-listed species. These activities will take place in Arizona.

Permit No. TE-039468

Applicant: Cecelia Smith, Tucson, Arizona.

Applicant requests a permit to conduct presence/absence surveys for the cactus ferruginous pygmy-owl (Glaucidium brasilianum cactorum), in Arizona.

Permit No. TE-039469

Applicant: Pima County Parks and Recreation, Tucson, Arizona.

Applicant requests a permit to conduct presence/absence surveys for the cactus ferruginous pygmy-owl (Glaucidium brasilianum cactorum), in Arizona.

Permit No. TE-039544

Applicant: Dr. Michael R.J. Forstner, San Marcos, Texas.

Applicant requests a permit to authorize research involving capture and release of the Houston toad (Bufo houstonensis) and Concho water snake (Nerodia harteri paucimaculata) in Texas.

Permit No. TE-798998

Applicant: Horizon Environmental Services, Austin, Texas.

Applicant requests a renewal of an expired permit to conduct presence/absence surveys for the following species: golden-cheeked warbler (Dendroica chrysoparis), black-capped vireo (Vireo atricapillus), interior least tern (Sterna antillarum athalassos), Houston toad (Bufo houstonensis), Tooth Cave spider (Neoleptoneta myopica), Bee Creek Cave harvestman (Texella reddelli), Bone Cave harvestman (Texella reyesi), Tooth Cave ground beetle (Rhadine persephone), Kretschmarr Cave mold beetle (Texamaurops reddelli), Coffin Cave mold beetle (Batrisodes texanus), Tooth Cave pseudoscorpion (Tartarocreagris texana), Helotes mould beetle (Batrisodes venyivi), Robber Baron Cave harvestman (Texella cokendolpheri), Robber Baron Cave spider (Cicurina baronia), Madla's cave spider (Cicurina madla), vesper cave spider (Cincurina vespera), Government Canyon cave spider (Neoleptoneta microps), as well as another cave spider (Cicurina venii) and two cave beetles (Rhadine exilis and Rhadine infernalis) that do not have common names. Authorization to conduct nest monitoring for interior least terns and tadpole collection of Houston toads is also requested.

Permit No. TE-039527

Applicant: Barbara French, Austin, Texas.

Applicant requests a permit to authorize rehabilitative care for injured bats. These bat species could include the following: gray bat (Myotis grisescens), Indiana bat (Myostis sodalis), Hawaiian hoary bat (Lasiurus cinereus semotus), Virginia big-eared bat (Corynorhinus townsendii virginianus), Ozark big-eared bat (Corynorhinus townsendii ingens), lesser long-nosed bat (Leptonycteris curasoae), and Mexican long-nosed bat (Leptonycteris nivalis).

Permit No. TE-026436

Applicant: George Veni and Associates, San Antonio, Texas.

Applicant requests a permit to survey for and collect the following Bexar County karst invertebrate species: Helotes mould beetle (Batrisodes venyivi), Robber Baron Cave harvestman (Texella cokendolpheri), Robber Baron Cave spider (Cicurina baronia), Madla's cave spider (Cicurina madla), vesper cave spider (Cincurina vespera), Government Canyon cave spider (Neoleptoneta microps), as well as another cave spider (Cicurina venii) and two cave beetles (Rhadine exilis and Rhadine infernalis) that do not have common names. This work will be conducted in Travis and Williamson Counties.

Permit No. TE-039571

Applicant: Garcia and Associates, San Anselmo, California.

Applicant requests a permit to conduct presence/absence surveys, nest monitoring, and banding (including color banding) for the southwestern willow flycatcher (Empidonax traillii extimus) in Arizona.

Permit No. TE-039716

Applicant: Arizona State University, Tempe, Arizona.

Applicant requests permit to capture and release for scientific research and recovery purposes the following fish species: humpback chub (Gila cypha), bonytail chub (Gila elegans), Virgin River chub (Gila robusta seminuda), woundfin (Pladopterus argentissimus), Colorado pikeminnow (Ptychocheilus lucius), razorback sucker (Xyrauchen texanus), Yaqui topminnow (Poeciliopsis occidentalis sonorensis), Gila topminnow (Poeciliopsis occidentalis), desert pupfish (Cyprinodon macularius), and Quitobaquito pupfish (Cyprinodon macularius eremus).

Permit No. TE-039731

Applicant: Environmental Defense, Austin, Texas.

Applicant requests a permit to conduct presence/absence surveys for the golden-cheeked warbler (Dendroica chrysoparis) and black-capped vireo (Vireo atricapillus) in Texas.

DATES: Written comments on these permit applications must be received on or before April 27, 2001.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8:00 to 4:30) at the U.S. Fish and Wildlife Service, Albuquerque, New Mexico. Please refer to the respective permit number for each application when submitting comments. All comments received, including names and addresses, will become part of the official administrative record and may be made available to the public.

FOR FURTHER INFORMATION CONTACT: Chief, Endangered Species Division, Albuquerque, New Mexico, at the above address. Documents and other information submitted with these applications are available for review, subject to the requirements of the Privacy Act and Freedom of Information Act, by any party who submits a written request for a copy of such documents within 30 days of the date of publication of this notice, to the address above.

Joy E. Nicholopoulos,
Acting Assistant Regional Director, Ecological Services, Region 2, Albuquerque, New Mexico.

[FR Doc. 01-7606 Filed 3-27-01; 8:45 am]

BILLING CODE 4310-55-P